DEPARTMENT OF AGRICULTURE

Foreign Agricultural Service

Notice of Request for an Extension of a Currently Approved Information Collection

AGENCY: Foreign Agricultural Service, USDA.

ACTION: Notice and request for comments.

SUMMARY: In accordance with the Paperwork Reduction Act of 1995, this notice announces the intention of the Foreign Agricultural Service to request an extension from the Office of Management and Budget (OMB) of a currently approved information collection for the Emerging Markets Program.

DATES: Comments on this notice must be received by May 5, 2025 to be assured of consideration.

ADDRESSES: You may send comments, identified by the OMB Control number 0551-0048, by any of the following methods:

• Federal eRulemaking Portal: http://www.regulations.gov. This portal enables respondents to enter short comments or attach a file containing lengthier comments.

• Email: PODadmin@usda.gov. Include OMB Control number 0551-0048 in the subject line of the message.

• Mail, Courier, or Hand Delivery: Curt Alt, U.S. Department of Agriculture, Foreign Agricultural Service, 1400 Independence Avenue SW, Room 6512, Washington, DC 20250.

Instructions: All submissions received must include the agency name and OMB Control Number for this notice.

FOR FURTHER INFORMATION CONTACT: Curt Alt, (202) 690-4784, PODAdmin@usda.gov.

SUPPLEMENTARY INFORMATION:

Title: Emerging Markets Program.

OMB Number: 0551-0048.

Expiration Date of Approval: March 31, 2025.

Type of Request: Extension of a currently approved information collection.

Abstract: Under the USDA Emerging Markets Program, information will be gathered from applicants desiring to receive grants under the program to determine the viability of requests for resources to implement activities authorized under the program. Recipients of grants under the program must submit performance and financial reports as set forth in the Emerging Market Program regulations, located at 7 CFR part 1486. Submitted information is used to develop effective grant agreements and assure that statutory requirements and program objectives are met.

Estimate of Burden: The public reporting burden for each respondent resulting from information collection under the USDA Emerging Markets Program varies in direct relation to the number and type of agreements entered into by such respondent. The estimated average reporting burden for the USDA Emerging Markets Program is 6.4 hours per response.

Type of Respondents: U.S. private or government entities such as private organizations, agricultural cooperatives, universities, state departments of agriculture, Federal agencies, non-profit organizations, and export trade associations.

Estimated Number of Respondents: 50 per annum.

Estimated Number of Responses per Respondent: 5 per annum.

Estimated Total Annual Burden of Respondents: 2,100 hours.

Copies of this information collection may be obtained from Ken Vernon, the Agency Information Collection Coordinator, at kenneth.vernon@usda.gov.

Requests for Comments: Send comments regarding (a) whether the information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques, or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for OMB approval.

Persons with disabilities who require an alternative means for communication of information (Braille, large print, audiotape, etc.) should contact RARequest@usda.gov.

Mark Slupek,
Acting Administrator, Foreign Agricultural Service.

[FR Doc. 2025-03423 Filed 3-3-25; 8:45 am]

BILLING CODE 3410-10-P